DEPARTMENT OF HOMELAND SECURITY

Coast Guard

33 CFR Part 100

[Docket No. USCG-2014-0113]

Special Local Regulation; Annual Marine Events on the Colorado River, Between Davis Dam (Bullhead City, Arizona) and Headgate Dam (Parker, Arizona) Within the San Diego Captain of the Port Zone

AGENCY: Coast Guard, DHS.

ACTION: Notice of enforcement of regulation.

SUMMARY: The Coast Guard will enforce the 2014 Lake Havasu Desert Storm marine event special local regulations on April 26, 2014. This annual marine event occurs on the navigable waters of the Colorado River in Lake Havasu, Arizona. This action is necessary to provide for the safety of the participants, crew, spectators, safety vessels, and general users of the waterway. During the enforcement period, persons and vessels are prohibited from entering into, transiting through, or anchoring within this regulated area unless authorized by the Captain of the Port, or his designated representative.

DATES: This rule is effective from 8 a.m. to 2 p.m. April 26, 2014. If the event is delayed by inclement weather, these regulations will also be enforced on April 27, 2014, from 8 a.m. to 2 p.m.

FOR FURTHER INFORMATION CONTACT: If you have questions on this notice, call or email Lieutenant Commander John Bannon, Waterways Management, U.S. Coast Guard Sector San Diego, CA; telephone 619-278-7261, email John.E.Bannon@uscg.mil.

SUPPLEMENTARY INFORMATION: The Coast Guard will enforce the Special Local Regulations in Lake Havasu for the 2014 Desert Storm Shootout in 33 CFR 100.1102, Table 1, Item 4 from 8 a.m. to 2 p.m. on April 26, 2014. If the event is delayed by inclement weather, these regulations will also be enforced on April 27, 2014, from 8 a.m. to 2 p.m.

Under provisions of 33 CFR 100.1102, persons and vessels are prohibited from entering into, transiting through, or anchoring within the regulated area, unless authorized by the Coast Guard Captain of the Port or his designated representative. Persons or vessels desiring to enter into or pass through the special local regulations may request permission from the Captain of the Port or a designated representative. If permission is granted, all persons and vessels shall comply with the instructions of the Caption of the Port or his designated representative. Spectator vessels may safely transit outside the regulated area but may not anchor, block, loiter, or impede the transit of participants or official patrol vessels. The Coast Guard may be assisted by other Federal, State, or Local law enforcement agencies in enforcing this regulation.

This notice is issued under authority of 33 CFR 100.1102 and 5 U.S.C. 552(a). In addition to this notice in the Federal Register, the Coast Guard will provide the maritime community with extensive advance notification of this enforcement period via the Local Notice to Mariners, Broadcast Notice to Mariners, and local advertising by the event sponsor.

If the Sector San Diego Captain of the Port or his designated representative determines that the regulated area need not be enforced for the full duration stated on this notice, he or she may use a Broadcast Notice to Mariners to grant general permission to enter the regulated area.

Dated: March 20, 2014.
S. M. Mahoney,
Captain, U.S. Coast Guard, Captain of the Port San Diego.

[FR Doc. 2014-07604 Filed 4-4-14; 8:45 am]

BILLING CODE 9110-04-P